DEPARTMENT OF THE INTERIOR

[2253-665]

National Park Service

Notice of Inventory Completion: Utah State University/College of Eastern Utah Prehistoric Museum, Price, UT

AGENCY: National Park Service, Interior.

ACTION: Notice.

Notice is here given in accordance with the Native American Graves Protection and Repatriation Act (NAGPRA), 25 U.S.C. 3003, of the completion of an inventory of human remains and associated funerary objects under the control of the Utah State University/College of Eastern Utah Prehistoric Museum, Price, UT. The human remains and associated funerary objects were removed from Carbon, Emery, Grand, and San Juan Counties, UT.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by the Prehistoric Museum professional staff in consultation with representatives of the Confederated Tribes of the Goshute Reservation, Nevada and Utah; Duckwater Shoshone Tribe of the Duckwater Reservation, Nevada; Ely Shoshone Tribe of Nevada; Hopi Tribe of Arizona; Kaibab Band of Paiute Indians of the Kaibab Indian Reservation, Arizona; Kewa Pueblo, New Mexico (formerly the Pueblo of Santo Domingo); Moapa Band of Paiute Indians of the Moapa River Indian Reservation, Nevada; Navajo Nation, Arizona, New Mexico & Utah; Northwestern Band of Shoshoni Nation of Utah (Washakie); Ohkay Owingeh, New Mexico (formerly the Pueblo of San Juan); Paiute Indian Tribe of Utah (Cedar Band of Paiutes, Kanosh Band of Paiutes, Koosharem Band of Paiutes, Indian Peaks Band of Paiutes, and Shivwits Band of Paiutes); Paiute-Shoshone Tribe of the Fallon Reservation and Colony, Nevada; Pueblo of Acoma, New Mexico; Pueblo of Cochiti, New Mexico; Pueblo of Jemez, New Mexico; Pueblo of Isleta, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; San Juan Southern Paiute Tribe of Arizona; Shoshone Tribe of the Wind River Reservation, Wyoming; Shoshone-Bannock Tribes of the Fort Hall Reservation of Idaho; Shoshone-Paiute Tribes of the Duck Valley Reservation, Nevada; Skull Valley Band of Goshute Indians of Utah; Southern Ute Indian Tribe of the Southern Ute Reservation, Colorado; Te-Moak Tribe of Western Shoshone Indians of Nevada (Four constituent bands: Battle Mountain Band; Elko Band; South Fork Band and Wells Band); Ute Indian Tribe of the Uintah & Ouray Reservation, Utah; Ute Mountain Tribe of the Ute Mountain Reservation, Colorado, New Mexico & Utah; Ysleta Del Sur Pueblo of Texas; and the Zuni Tribe of the Zuni Reservation, New Mexico (hereinafter referred to as “The Tribes”).

In 1956, human remains representing a minimum of one individual were removed by a rancher from an unrecorded site on his private land in Nine Mile Canyon, Carbon County, UT. The remains were transferred to the Prehistoric Museum (formerly the Price City Museum) in 1961. No known individual was identified. The five associated funerary objects are one lot of sewn leather clothing, one knotted/woven juniper bark blanket enclosing shredded juniper bark (for padding) and several plant remains, one lot of thick cordage with the remains of rabbit-fur strips, one knotted/plaited juniper bark cradle with leather hood and willow or sumac frame, and one woven reed-grass/phragmites blanket with cordage ties.

In 1950, human remains representing a minimum of one individual were removed from an unrecorded site on private land called “Scarps Ranch” near Indian Creek, in Grand or San Juan County, UT. The remains were transferred to the Prehistoric Museum in 1961. No known individual was identified. No associated funerary objects are present.

In 1954, human remains representing a minimum of one individual, an infant, were removed from an unrecorded site on private property in Nine Mile Canyon, Carbon County, UT, by a rancher. The remains were transferred to the Prehistoric Museum in 1961. No known individual was identified. The seven associated funerary objects are an animal skin/fur wrapped around the infant, one bundle of grasses, maize leaves/husks, miscellaneous plant remains and shredded juniper bark (for padding), one bent, knotted willow/sumac stick cradle frame, one bundle of sticks, and three pieces of leather (used to strap the wrapped infant to the stick cradle frame).

In the 1960s, human remains representing a minimum of one individual were removed from an unknown and unrecorded site in the Green River corridor, probably in Emery County, UT. The remains were given to the Prehistoric Museum in the 1960s. No known individual was identified. The three associated funerary objects are a sewn leather moccasin/sandal fragment, cordage, and shredded juniper bark padding from the burial.

Around 1969 to 1971, human remains representing a minimum of six individuals were accidentally discovered during the construction of the Millsite Reservoir near Ferron, in Emery County, UT. The remains were transferred from the Emery County Sheriff to the Prehistoric Museum circa 1980. No known individuals were identified. The 23 artifacts accompanying the transferred human remains are 3 small basketry fragments, 2 maize cobs, 3 small pieces of cordage, 1 large twist/cache of dogbane fiber, 2 large pine cones, 1 bear claw, 1 bone awl, 1 deer scapula, 2 complete bighorn sheep horns, 1 debitage flake, 1 large D-shaped biface fragment, 1 small animal bone, 1 juvenile animal long bone, 1 lot of several small rodent bones, 1 human coprolite, and an owl pellet.

The individuals described above appear be associated with the prehistoric Native American culture that archeologists have named Fremont.

Between 1989 and 1993, human remains representing a minimum of one individual were removed from “Frank's Place,” site 42Cb770, reported to be located on private land in Carbon County, UT, by Brigham Young University as part of a legal excavation. The remains were transferred to and accessioned by the Prehistoric Museum in 1995. No known individual was identified. Two artifacts recovered from the burial cist were accessioned with the burial.

Brigham Young University excavators also reported three other artifacts from the cist containing the burial, but were not sure if they were funerary objects, and did not transfer them to the Prehistoric Museum. The associated funerary objects are two small pieces of chipped stone.

The remains from site 42Cb770 were excavated by Brigham Young University archeologists from inside a slab-lined cist in the floor of a Fremont pithouse located on a natural bench above the floodplain in Nine Mile Canyon, and the ribs from the child were transferred for analyses. The burial has been radiocarbon dated to circa A.D. 1150, consistent with the Fremont culture in Nine Mile Canyon and eastern Utah, thus suggesting its affiliation with the prehistoric Native American culture that archeologists have named Fremont.

At an unknown date, possibly between 1959 and 1983, human remains representing a minimum of three individuals were removed from unknown sites on private land along the Green River corridor near Green River, probably in Emery or Grand County, UT. These remains were given to the Prehistoric Museum by the landowner circa 1983. No known individuals were identified. A box of associated cultural objects was given to the museum by the same individual and reported to be from the same location. One of the donated items, a turkey-feather blanket, was listed as a “woven burial mat,” and so the transferred objects are presumed to be associated funerary objects. The 33 associated funerary objects are 2 small black-on-white bowls, 1 small corrugated, partially reconstructed jar, 1 Mesa Verde black-on-white mug, 1 reconstructed Ivie Creek black-on-white bowl, 1 reconstructed Tusayan bowl fragment, 6 bags of potshcrds (including mostly Fremont grayware but also many decorated Fremont and Anasazi types), 1 tied grass hairbrush, 1 fingerprint in mud/adobe, 1 willow or dogbane knot/cache, 1 turkey-feather blanket, 5 lithic tools, 1 bag of bark fragments, 1 small turkey-feather blanket cordage fragment, 1 piece of charcoal, 5 maize cobs, 2 horn fragments, 1 piece of calcite, and an acorn.

These individuals described above appear to be affiliated with either Ancestral Pueblo/Hisatsinom/Anasazi or Fremont prehistoric cultures.

From approximately 1972 to 1977, following a flash flood, human remains representing a minimum of two individuals were removed from Comb Wash at T37 S, R 20E, Sec 24, at or near the intersection of Comb Wash and Arch Canyon, in San Juan County, UT, by a private individual. The remains were given to the Prehistoric Museum in 1997. No known individuals were identified. No associated funerary objects are present.

Both of the above individuals are Native American males, approximately 30-45 years of age. They both have extreme dental attrition, including caries and excessive wear into both the enamel and dentin, suggesting an association with the Formative period and a diet rich in stone-ground maize. One cranium exhibits extreme occipital/lambdoidal flattening and is very broad, whereas the other is narrow, gracile and vaulted, sinodont, and possibly has some cranial deformation though the occipital is missing. These remains are most likely associated with the ancient Native American culture called Hisatsinom or Anasazi.

Fremont archeological sites differ from contemporary and ancient Puebloan sites in architectural features and material remains, and some Fremont artifact types are unique with respect to other Southwestern, Rocky Mountain or Great Basin material cultures (e.g., Barlow 1997, 2002, 2006). Overall, the constellation of material traits associated with Fremont cultures does not appear to have a modern or ethnographic correlate among living Native American peoples. Peoples of the ancient Fremont culture also appear to have been physically and genetically distinct from Native American people who today inhabit this region. Morphologically, especially in cranial characteristics, Fremont remains generally differ from contemporary Numic-speaking peoples, and also usually lack the distinctive occipital flattening that is common, and even characteristic, of their Puebloan counterparts. This difference is generally attributed to cultural differences in the types of cradleboards or infant carriers used by prehistoric peoples in this region.

By contrast, some Fremont archeological sites in Utah have a strong geographic overlap with later Numic cultures, thus these cultures may be coincident with the latest Fremont occupation of this region. This may be especially true of ethno-Historic Ute Tribes in eastern Utah and possibly also including some Paiute and Shoshone bands and Tribes in other parts of the Fremont culture region. Many areas and some sites with prehistoric Fremont artifacts and rock art in this region have overlapping ethno-Historic Ute or Nuché components; sometimes Ute rock art has been painted over earlier Fremont figures. Also Ute tipi and wickiup sites, and some Ute game or pony drives are found in eastern Utah.

Interpretations of DNA extracted from Fremont remains—albeit mostly from Fremont remains in neighboring areas rather than eastern Utah—suggest a possible genetic relationship between some ancient Fremont people and some members of the Zuni Tribe (and perhaps other modern Puebloan peoples), but do not suggest genetic affiliations with modern Numic-speaking Tribes. Morphological attributes also suggest that Numic peoples are not descended from Fremont peoples. It should also be noted, however, that DNA studies conducted on Fremont remains have yielded varied results and interpretations (e.g., at one time it was suggested that some Fremont were distinctly different from ancestral or modern Puebloans, although today they appear to be related), that published comparisons do not include Hopi DNA, and that recent analyses of the DNA of ancient Puebloan peoples and of individuals from modern Pueblos suggest that the two groups are more closely related to each other than to Fremont. It is not yet understood what the DNA evidence means with respect to ancestor-descendant relationships with modern Puebloan peoples, or whether this evidence indicates intermarriage or social networks with Hisatsinom peoples in the past. In addition, more work is needed for a rigorous scientific assessment of the variability in DNA from different areas within the larger Fremont culture region, which was home to at least five distinct prehistoric Fremont peoples and cultures (e.g., the Great Salt Lake vs. the Sevier vs. Parowan vs. Uintah vs. the San Rafael), and which may reflect concomitant diversity in language, socio-political networks, and possibly genetic affiliation. Nevertheless, it appears that the closest living relatives of ancient Fremont peoples and cultures are likely to be found among modern Pueblo peoples.

It should also be noted that in some areas of eastern Utah, archeological sites sometimes include cultural traits from both ancient Fremont and Hisatsinom/Anasazi/Ancestral Puebloan archeological “cultures.” Although the precise nature of the relationship is unclear, archeological evidence from sites in this area, and genetic evidence from Fremont remains, Hisatsinom remains, and modern Puebloan people, indicate that people from these ancient cultures were involved in social and economic relationships, and may share some common ancestors and/or descendants. In fact, in this part of eastern Utah artifacts from both cultures often are found at the same sites. It is common to find some Hisatsinom pottery on Fremont sites in Carbon and Emery Counties, particularly sites that postdate A.D. 1000. Often, varieties of pottery from the Tusayan region are found suggesting increasing economic and/or social networks with Hisatsinom neighbors circa A.D. 1050-1270. In addition, a few human burials from this area, although associated with Fremont sites, exhibit characteristics that suggest Puebloan affiliation or ancestry. In summary, although the Fremont culture of the San Rafael region likely originated from the indigenous Archaic culture of the San Rafael, there is increasing archeological evidence that those ancient people likely had social links to contemporary prehistoric Hisatsinom/Anasazi peoples.

It should also be noted that Hopi Elders have consulted with the Prehistoric Museum about a Hopi cultural/oral tradition that some Fremont people may be ancestral to several of the northern Hopi Clans, and a belief that some Fremont people joined with Hopi in the Ancestral Tutsqua homeland relatively late in the Prehistoric period, and became part of the Hopi. Hopi elders have also identified similarities between some rock art images in this region and modern Hopi symbols and cultural traditions. These similarities suggest possible movements of ancestral Hopi, and may correlate with Hopi oral traditions about clans completing sacred migrations during the Formative period prior to settling on the Hopi mesas, and/or pilgrimage of some Hopi to ancestral sites in the Fremont region during the late Prehistoric or early ethno-Historic periods.

With respect to prehistoric Hisatsinom/Anasazi human remains, there appears to be cultural continuity between ancient and modern Puebloan cultures in the American Southwest, with a high degree of overlap in both genetic affiliations and archeological attributes, including some artifacts and architectural features. There is increasing evidence from DNA studies supporting genetic relationships between some prehistoric Hisatsinom or Anasazi individuals and modern Zuni, and perhaps other Puebloan peoples. There is also accumulating evidence that some Navajo or Diné may share some material traits with Pueblo cultures, and may have ties to some ancient Puebloan peoples, but it is not reasonable to assume cultural affiliation with the Navajo or Diné at this time, as the latter apparently did not arrive in the Southwest until several hundred years after the deposition of these human remains.

Officials of the Prehistoric Museum have determined, pursuant to 25 U.S.C. 3001(9), that the human remains described above represent the physical remains of 16 individuals of Native American ancestry. Officials of the Prehistoric Museum have also determined, pursuant to 25 U.S.C. 3001(3)(A), that the 73 objects described above are reasonably believed to have been placed with or near individual human remains at the time of death or later as part of the death rite or ceremony. Lastly, officials of the Prehistoric Museum have determined, pursuant to 25 U.S.C. 3001(2), that there is a relationship of shared group identity that can be reasonably traced between the Native American human remains and associated funerary objects and the Hopi Tribe of Arizona; Kewa Pueblo, New Mexico; Ohkay Owingeh, New Mexico; Pueblo of Acoma, New Mexico; Pueblo of Cochiti, New Mexico; Pueblo of Jemez, New Mexico; Pueblo of Isleta, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ysleta Del Sur Pueblo of Texas; and the Zuni Tribe of the Zuni Reservation, New Mexico.

Representatives of any other Indian Tribe that believes itself to be culturally affiliated with the human remains and/or associated funerary objects should contact K. Renee Barlow, USU/CEU Prehistoric Museum, 150 East Main St., Price, UT 84501, telephone (435) 613-5290, before June 13, 2011. Repatriation of the human remains and associated funerary objects to the Hopi Tribe of Arizona; Kewa Pueblo, New Mexico; Ohkay Owingeh, New Mexico; Pueblo of Acoma, New Mexico; Pueblo of Cochiti, New Mexico; Pueblo of Jemez, New Mexico; Pueblo of Isleta, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ysleta Del Sur Pueblo of Texas; and the Zuni Tribe of the Zuni Reservation, New Mexico, may proceed after that date if no additional claimants come forward.

The Prehistoric Museum is responsible for notifying The Tribes that this notice has been published.

Dated: May 9, 2011.
Sherry Hutt,
Manager, National NAGPRA Program.

[FR Doc. 2011-11812 Filed 5-12-11; 8:45 am]

BILLING CODE 4312-50-P